POSTAL SERVICE

39 CFR Part 111

Elimination of Cash and Check Deposits Into Local Trust Accounts for Express Mail Corporate Accounts

AGENCY: Postal Service™.

ACTION: Proposed rule.

SUMMARY: The Postal Service proposes to revise its Mailing Standards of the United States Postal Service, Domestic Mail Manual (DMM®) by providing Automated Clearing House (ACH) debit as a new method of payment for Express Mail Corporate Account (EMCA) customers. The ACH system is a secure, private network that connects banks to one another by way of the Federal Reserve Board. This network enables electronic payments, such as debit card purchases, to be handled and processed. This proposed rule would also eliminate cash and check deposits made into local trust accounts. EMCA customers would still have three options to fund their accounts: Participate in the Centralized Account Processing System (CAPS), use a personal or business credit or debit card, or authorize the USPS to originate an ACH debit from a specified bank account.

DATES: Submit comments on or before November 9, 2007.

ADDRESSES: Mail or deliver written comments to the Manager, Mailing Standards, U.S. Postal Service, 475 L'Enfant Plaza, SW., Room 3436, Washington, DC 20260-3436. Written comments may also be submitted via fax to 202-268-4955. Copies of all written comments will be available for inspection and photocopying between 9 a.m. and 4 p.m., Monday through Friday, at the Postal Service Headquarters Library, 475 L'Enfant Plaza, SW., 11th Floor North, Washington, DC 20260-0004.

FOR FURTHER INFORMATION CONTACT: Joe Owens, 202-268-7460, or Garry A. Rodriguez, 202-268-7281, United States Postal Service.

SUPPLEMENTARY INFORMATION: The Postal Service is proposing to eliminate cash and check deposits in local trust accounts and to provide Automated Clearing House (ACH) as a new method of payment for Express Mail Corporate Account (EMCA) customers as part of the Postal Service's ongoing mission to help grow revenue in a competitive market by increasing efficiencies, enhancing financial controls, and reducing costs.

Currently EMCA customers may use one of the following payment methods to fund their accounts:

a. Participate in the Centralized Account Processing System (CAPS).

b. Use a personal or business credit card.

c. Make an initial deposit with cash or by check of $250, or the total postage and fees expected during the first 4 weeks of account usage, whichever is higher.

After the first 4 weeks, the minimum balance in the account must equal an average week's postage and fees, or $100, whichever is higher.

Under this proposal, cash and check deposits would be eliminated and customers would be provided with an ACH payment method as a new option.

Effective December 1, 2007, new EMCA customers would be required to fund their accounts using one of the following payment methods:

a. Use a personal or business credit or debit card.

b. Authorize the USPS to originate an ACH debit from a specified bank account.

c. Participate in the Centralized Account Processing System (CAPS) debit only if combined with other PostalOne® accounts such as permit imprint, Periodicals, business reply mail, and Address Element Correction.

By using an electronic payment option, customers will no longer have to go to a Post Office™ to make deposits into their EMCA trust accounts. This new payment option enhances financial control by reducing risk and eliminating the administrative costs of pursuing negative balance or delinquent EMCA accounts.

Existing EMCA customers who deposit cash and checks in local trust accounts will be transitioned to electronic payment methods during the next year. Details of this effort will be directly communicated to current EMCA customers.

Although exempt from the notice and comment requirements of the Administrative Procedure Act [5 U.S.C. of 553(b), (c)] regarding proposed rulemaking by 39 U.S.C. 410(a), the Postal Service invites public comment on the following proposed revisions to Mailing Standards of the United States Postal Service, Domestic Mail Manual, incorporated in the Code of Federal Regulations. See 39 CFR 111.1, 111.4.

List of Subjects in 39 CFR Part 111

Postal Service.

PART 111—[AMENDED]

1. The authority citation for 39 CFR part 111 continues to read as follows:

Authority: 5 U.S.C. 552(a); 39 U.S.C. 101, 401, 403, 404, 414, 416, 3001-3011, 3201-3219, 3403-3406, 3621, 3626, 5001.

2. Amend the following sections of Mailing Standards of the United States Postal Service, Domestic Mail Manual (DMM) as set forth below:

* * * * *

100 Retail Mail

* * * * *

110 Express Mail

* * * * *

114 Postage Payment Methods

* * * * *

2.0 Corporate Accounts

* * * * *

2.4 Minimum Balance

For opening and maintaining an account, the mailer may do any of the following: [Revise the text in items a, b, and c as follows:]

a. Use a personal or business credit or debit card.

b. Authorize the USPS to originate an ACH debit from a specified bank account.

c. Participate in the Centralized Account Processing System (CAPS) debit only if combined with other PostalOne® accounts such as permit imprint, Periodicals, business reply mail, and Address Element Correction.

An appropriate amendment to 39 CFR part 111 to reflect these changes will be published if the proposal is adopted.

Neva R. Watson,
Attorney, Legislative.

[FR Doc. E7-19934 Filed 10-9-07; 8:45 am]

BILLING CODE 7710-12-P